DEPARTMENT OF DEFENSE

Office of the Secretary

U.S. Nuclear Command and Control System Comprehensive Review Advisory Committee Closed Meetings

AGENCY: Department of Defense.

ACTION: Notice.

SUMMARY: Under the provisions of the Federal Advisory Committee Act of 1972 (5 U.S.C., Appendix, as amended), the Government in the Sunshine Act of 1976 (5 U.S.C. paragraph 552b, as amended), and 41 CFR paragraph 102-3.150, the Department of Defense announces the following meetings of the U.S. Nuclear Command and Control System Comprehensive Review Advisory Committee.

DATES: July 8, 2008 (8:30 a.m. to 4:30 p.m.) and July 9, 2008 (8:30 a.m. to 5 p.m.)

ADDRESSES: Pentagon Conference Center M4 and B6 respectively.

FOR FURTHER INFORMATION CONTACT: Mr. William L. Jones, (703) 681-8681, U.S. Nuclear Command and Control System Support Staff (NSS), Skyline 3, 5201 Leesburg Pike, Suite 500, Falls Church, Virginia 22041.

SUPPLEMENTARY INFORMATION: Purposes of the Meetings: To provide an overview of Nuclear Command and Control System assessments and to present Research Group Plans of Action and Milestones in support of the Review's objectives.

Agenda, July 8, 2008
Time | Topic | Presenter
8:30 am | Administrative Remarks | CAPT Budney, USN (NSS)
8:50 am | NCCS Annual Report | Mr. Rogers (NSS)
9:10 am | Joint Surety Report | ATSD(NCB)/NM
9:30 am | Weapons Oversight (NWC's role) | ATSD(NCB)/NM
9:50 am | Break
10:10 am | DoD National Leadership Command Capabilities Oversight | OASD(NII)
10:30 am | DoD IG Nuclear Weapons-related audits | DoD IG
10:50 am | Relevant GAO Reports | TBD
11:15 am | Lunch
12:30 pm | DSB Task Force on Nuclear Weapons Surety Unauthorized Movement of Nuclear Weapons | Gen (Ret) Larry Welch
1:00 pm | Air Force Command-Directed Investigation | Air Staff
1:30 pm | Air Force Blue Ribbon Review | Air Staff
2:00 pm | Break
2:15 pm | DSB Task Force on Nuclear Weapons Surety Report on the Navy Nuclear Enterprise | Gen (Ret) Larry Welch
2:45 pm | Readiness and Reliability Fleet Review | ComSubFor for Navy Staff
3:15 pm | Nuclear Survivability and Assessment | Mr. Andy Metzger (STRATCOM)
4:00 pm | Executive Session
4:30 pm | Adjourn

Agenda, July 9, 2008
Time | Topic | Presenter
8:30 am | Administrative Remarks | CAPT Budney, USN (NSS)
8:45 am | Physical and Personnel Security | Mr. Devin Biniaz (OSD) Mr. Jeff Everett (SNL)
9:15 am | Recapture/Recovery | Mr. Steve Wanzer (NNSA) Ms. Pam Piersanti (FBI)
9:45 am | Accident/Incident | Ms. Alane Andreozzi (DTRA) Ms. Patricia Garcia (NNSA)
10:15 am | Break
10:30 am | Warhead and Stockpile Management | Mr. Tim Driscoll Mr. Sean McDonald (OSD)
11:00 am | Weapons Delivery Systems | CAPT Bob Vince, USN (SSP) Col Rob Hyde, USAF (AFIA)
11:30 am | Nuclear Command and Control | Mr. Bob Servant (STRATCOM)
12:00 pm | Lunch
1:00 pm | Force Planning | Mr. Jim Colasacco (STRATCOM)
1:30 pm | Information Assurance | Mr. Chuck Nicholson (STRATCOM) Ms. Gloria Serrao (NSA)
2:00 pm | Break
2:15 pm | Situational Awareness & ITW/AA | Col Steve Winters, USAF (AFSPC) Col Albert Zelenak, USAF (STRAT)
2:45pm | Communications | Mr. John Goodman (DISA) Mr. Tom McNamara (JHU) Mr. Bill Thoms (DISA)
3:15 pm | Threat/Intelligence | Mr. Kurzenhauser (ODNI) Mr. Mike Holtz (DOE)
3:45 pm | Crisis Support | Mr. Bill Lublin (JS)
4:15 pm | Executive Session
5:00 pm | Adjourn

Pursuant to 5 U.S.C. paragraph. 552b, as amended, and 41 CFR paragraph. 102-3.155, the Department of Defense has determined that the meeting shall be closed to the public. The Director, U.S. Nuclear Command and Control System Support Staff, in consultation with his General Counsel, has determined in writing that the public interest requires that all sessions of the committee's meeting will be closed to the public because they will be concerned with classified information and matters covered by section 5 U.S.C. paragraph 552b(c)(1). Committee's Designated Federal Officer: Mr. William L. Jones, (703) 681-8681, U.S. Nuclear Command and Control System Support Staff (NSS), Skyline 3, 5201 Leesburg Pike, Suite 500, Falls Church, Virginia 22041. William.jones@nss.pentagon.mil

Pursuant to 41 CFR paragraphs 102-3.105(j) and 102-3.140, and section 10(a)(3) of the Federal Advisory Committee Act of 1972, the public or interested organizations may submit written statements at any time to the Nuclear Command and Control System Federal Advisory Committee about its mission and functions. All written statements shall be submitted to the Designated Federal Officer for the Nuclear Command and Control System Federal Advisory Committee. He will ensure that written statements are provided to the membership for their consideration. Written statements may also be submitted in response to the stated agenda of planned committee meetings. Statements submitted in response to this notice must be received by the Designated Federal Official at least five calendar days prior to the meeting which is the subject of this notice. Written statements received after that date may not be provided to or considered by the Committee until its next meeting. All submissions provided before that date will be presented to the committee members before the meeting that is subject of this notice. Contact information for the Designated Federal Officer is listed above.

Dated: June 16, 2008.
Patricia L. Toppings,
OSD Federal Register Liaison Officer, Department of Defense.

[FR Doc. E8-13987 Filed 6-19-08; 8:45 am]

BILLING CODE 5001-06-P